DEPARTMENT OF COMMERCE

National Oceanic and Atmospheric Administration

RIN 0648-XJ84

Pacific Fishery Management Council; Public Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet September 7-12, 2008. The Council meeting will begin on Monday, September 8, at 8 a.m., reconvening each day through Friday, September 12. All meetings are open to the public, except a closed session will be held from 8 a.m. until 9 a.m. on Monday, September 8 to address litigation and personnel matters. The Council will meet as late as necessary each day to complete its scheduled business.

ADDRESSES: The meetings will be held at the Doubletree Hotel Boise Riverside, 2900 Chinden Boulevard, Boise, ID 83714; telephone: (208) 343-1871.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Open Comment Period

Comments on Non-Agenda Items

C. Administrative Matters

1. Future Council Meeting Agenda and Workload Planning

2. Process for Council Approval of Regulations Implementing Council Recommendations (“Deeming Process”)

3. Update and Communication of Research and Data Needs

4. Legislative Matters

5. Implementation of the Magnuson-Stevens Reauthorization Act

6. Approval of Council Meeting Minutes

7. Fiscal Matters

8. Membership Appointments and Council Operating Procedures

9. Future Council Meeting Agenda and Workload Planning (continued)

D. Salmon Management

1. Salmon Methodology Review

2. Progress Report on Causes of the 2008 Salmon Failure

3. Central Valley Salmon Recovery Plan

E. Pacific Halibut Management

1. Pacific Halibut Bycatch Estimate for International Pacific Halibut Commission Adoption

2. Pacific Halibut Catch Apportionment Methodology

3. Proposed Changes to Catch Sharing Plan and 2009 Annual Regulations

F. Enforcement

Enforcement Activity Report

G. Habitat

Current Habitat Issues

H. Highly Migratory Species Management

1. National Marine Fisheries Service Report

2. Changes to Routine Management Measures for 2009-2010 Season

3. Fishery Management Plan Amendment 2: High Seas Shallow Set Longline Management

I. Groundfish Management

1. Consideration of Inseason Adjustments

2. Groundfish Essential Fish Habitat Review Process

3. National Marine Fisheries Service Report

4. Fishery Management Plan Amendment 22: Open Access License Limitation

5. Stock Assessment Planning for 2011-2012 Groundfish Fishery Decision Making

6. Final Adoption of Exempted Fishing Permits for 2009

7. Final Consideration of Inseason Adjustments (if Needed)

SCHEDULE OF ANCILLARY MEETINGS
Sunday, September 7, 2008 |
Scientific and Statistical Committee | 8 a.m.
Budget Committee | 2:30 p.m.
Legislative Committee | 3:30 p.m.
Monday, September 8, 2008 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Highly Migratory Species Advisory Subpanel | 8 a.m.
Highly Migratory Species Management Team | 8 a.m.
Scientific and Statistical Committee | 8 a.m.
Habitat Committee | 8:30 a.m.
Tuesday, September 9, 2008 |
Council Secretariat | 7 a.m.
California State Delegation | 7 a.m.
Oregon State Delegation | 7 a.m.
Washington State Delegation | 7 a.m.
Enforcement Consultants | 8 a.m.
Essential Fish Habitat Review Committee | 8 a.m.
Groundfish Advisory Subpanel | 8 a.m.
Groundfish Management Team | 8 a.m.
Highly Migratory Species Advisory Subpanel | 8 a.m.
Highly Migratory Species Management Team | 8 a.m.
Wednesday, September 10, 2008 |
Council Secretariat | 7 a.m.
California State Delegation | 7 a.m.
Oregon State Delegation | 7 a.m.
Washington State Delegation | 7 a.m.
Enforcement Consultants | 8 a.m.
Essential Fish Habitat Review Committee | 8 a.m.
Groundfish Advisory Subpanel | 8 a.m.
Groundfish Management Team | 8 a.m.
Thursday, September 11, 2008 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As needed
Friday, September 12, 2008 |
Council Secretariat | 7 a.m.
California State Delegation | 7 a.m.
Oregon State Delegation | 7 a.m.
Washington State Delegation | 7 a.m.
Groundfish Management Team | 8 a.m.

Although non-emergency issues not contained in this agenda may come before this Council for discussion, those issues may not be the subject of formal Council action during these meetings. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: August 15, 2008.
Tracey L. Thompson,
Acting Director, Office of Sustainable Fisheries, National Marine Fisheries Service.

[FR Doc. E8-19291 Filed 8-19-08; 8:45 am]

BILLING CODE 3510-22-S